ENVIRONMENTAL PROTECTION AGENCY

[FRL-7774-4]

Proposed CERCLA Administrative Cost Recovery Settlement; Potomac Yard CERCLA Removal Site

AGENCY: Environmental Protection Agency.

ACTION: Notice; request for public comment.

SUMMARY: In accordance with section 122(i)(1) of the Comprehensive Environmental Response, Compensation, and Liability Act, as amended (“CERCLA”), 42 U.S.C. 9622(i)(1), notice is hereby given of a proposed administrative settlement for recovery of past response costs concerning the Potomac Yard CERCLA Removal Site in the City of Alexandria and Arlington County, Virginia, with Commonwealth Atlantic Land V Inc., the settling party. The administrative settlement was signed by the United States Environmental Protection Agency (“EPA”), Region III's Regional Administrator on June 7, 2004, and is subject to review by the public pursuant to this document.

EPA is proposing to enter into a settlement pursuant to section 122(h) of CERCLA, 42 U.S.C. 9622(h). The proposed settlement resolves EPA's claim for past response costs under section 107 of CERCLA, 42 U.S.C. 9607, against Commonwealth Atlantic Land V Inc. for response costs incurred at the Potomac Yard CERCLA Removal Site. The proposed settlement requires Commonwealth Atlantic Land V Inc. to pay $19,619.02 to the EPA Hazardous Substance Superfund. The settlement includes a covenant not to sue the settling party pursuant to section 107(a) of CERCLA, 42 U.S.C. 9607(a), to recover past response costs.

For thirty (30) days following the date of publication of this notice, EPA will receive written comments relating to the proposed settlement. EPA will consider all comments received, and may withdraw or withhold its consent to the proposed settlement if such comments disclose facts or considerations which indicate the proposed settlement is inappropriate, improper, or inadequate. EPA's response to any written comments received will be available for public inspection at the U.S. Environmental Protection Agency, Region III, 1650 Arch Street, Philadelphia, PA 19103, and at the following locations: Charles E. Beatley, Jr. Central Library, 5005 Duke Street, Alexandria, VA 22304-2903, telephone number (703) 519-5900; Arlington County Library, Aurora Hills Branch, 735 18th Street South, Arlington, VA 22202, telephone number (703) 228-5715; and The James M. Duncan, Jr. Public Library, 2501 Commonwealth Avenue, Alexandria, VA 22301, telephone number (703) 838-4566.

DATES: Comments must be submitted on or before July 19, 2004.

ADDRESSES: Comments should be addressed to the Docket Clerk (3RC00), U.S. Environmental Protection Agency, Region III, 1650 Arch Street, Philadelphia, PA 19103, and should reference the Potomac Yard CERCLA Removal Site, City of Alexandria and Arlington County, Virginia, and U.S. EPA Region III Docket No. CERC-03-2004-0173DC. The proposed settlement agreement is available for public inspection at the U.S. Environmental Protection Agency, Region III, 1650 Arch Street, Philadelphia, PA 19103. A copy of the proposed settlement agreement can be obtained from Suzanne Canning, Regional Docket Clerk (3RCOO), U.S. Environmental Protection Agency, Region III, 1650 Arch Street, Philadelphia, PA 19103, telephone number (215) 814-2476.

FOR FURTHER INFORMATION CONTACT: Gwen E. Pospisil, Senior Assistant Regional Counsel, U.S. Environmental Protection Agency, Office of Regional Counsel (3RC44), 1650 Arch Street, Philadelphia, PA 19103, telephone number (215) 814-2678.

Dated: June 8, 2004.
Thomas Voltaggio,
Acting Regional Administrator, Region III.

[FR Doc. 04-13856 Filed 6-17-04; 8:45 am]

BILLING CODE 6560-50-P